DEPARTMENT OF COMMERCE

International Trade Administration

[A-489-807]

Certain Steel Concrete Reinforcing Bars from Turkey; Notice of Extension of Time Limits for Final Results of Antidumping Duty Administrative Review

AGENCY: Import Administration, International Trade Administration, Department of Commerce.

SUMMARY: The Department of Commerce is extending the time limits for the final results in the antidumping duty administrative review of certain steel concrete reinforcing bars from Turkey. The review covers three producers/exporters of the subject merchandise to the United States. The period of review is April 1, 2000, through March 31, 2001.

EFFECTIVE DATE: August 19, 2002.

FOR FURTHER INFORMATION CONTACT: Irina Itkin or Elizabeth Eastwood, Office of AD/CVD Enforcement, Office 2, Import Administration, International Trade Administration, U.S. Department of Commerce, 14th Street and Constitution Avenue, N.W., Washington, D.C. 20230; telephone (202) 482-0656 and (202) 482-3874, respectively.

SUPPLEMENTARY INFORMATION:

Statutory Time Limits

Section 751(a)(3)(A) of the Tariff Act of 1930, as amended (the Act) requires the Department of Commerce (the Department) to make a final determination within 120 days after the date on which the preliminary determination is published. However, if it is not practicable to complete the review within this time period, section 751(a)(3)(A) of the Act allows the Department to extend the time limit for the final results to 180 days (or 300 days if the Department does not extend the time limit for the preliminary results) from the date of publication of the preliminary results.

Postponement of Final Results of Administrative Review

The Department issued the preliminary results of this administrative review of the antidumping duty order on certain steel concrete reinforcing bars from Turkey on May 1, 2002 (67 FR 21634). The current deadline for the final results in this review is August 29, 2002. In accordance with section 751(a)(3)(A) of the Act, and 19 CFR 351.213(h)(2), the Department finds that it is not practicable to complete the review within the original time frame due to the complexity of certain issues raised in the case briefs.

Because it is not practicable to complete this administrative review within the time limits mandated by section 751(a)(3)(A) of the Act and 19 CFR 351.213(h)(2), the Department is extending the time limits for completion of the final results of this administrative review until October 28, 2002.

Dated: August 13, 2002.
Richard W. Moreland,
Deputy Assistant Secretary for Import Administration.

[FR Doc. 02-21016 Filed 8-16-02; 8:45 am]

BILLING CODE 3510-DS-S